INTERNATIONAL TRADE COMMISSION

[USITC SE-18-058]

Sunshine Act Meetings

TIME AND DATE: December 14, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-598 and 731-TA-1408 (Final)(Rubber Bands from China). The Commission is currently scheduled to complete and file its determinations and views of the Commission by December 27, 2018.

5. Outstanding action jackets: None.

In accordance with Commission policy, subject matter listed above, not disposed of at the scheduled meeting, may be carried over to the agenda of the following meeting.

By order of the Commission.
Issued: December 7, 2018.
Lisa Barton,
Secretary to the Commission.

[FR Doc. 2018-26925 Filed 12-7-18; 4:15 pm]

BILLING CODE 7020-02-P